DEPARTMENT OF STATE

[Public Notice 4746]

Notice of Receipt of Application for a Presidential Permit for Pipeline Facilities To Be Constructed and Maintained on the Border of the United States

AGENCY: Department of State, Office of International Energy and Commodities Policy.

ACTION: Notice.

Notice is hereby given that the Department of State has received an application from Express Pipeline, LLC (Express) for a Presidential permit, pursuant to Executive Order 13337 of April 30, 2004. On August 30, 1996, the State Department had issued a Presidential permit to Express Pipeline partnership, the applicant's predecessor in interest, to construct, connect, operate and maintain a pipeline at the international boundary between the United States and Canada. On August 1, 2001, Express Pipeline partnership filed a certificate of conversion to a limited liability company with the Delaware Secretary of State, thereby automatically converting to a domestic limited liability company. On January 9, 2003, Encana Corporation of British Columbia sold Express to a consortium comprised of Terasen, Inc of British Columbia, Ontario Municipal Employees Retirement System, and Ontario Teachers' Pension Plan Board, each holding an equal one-third interest. The application filed with the Department of State requests authorization for Express to operate and maintain Express's existing crude oil transporter system that crosses the U.S.-Canadian border in the vicinity of Port of Wild Horse, Alberta, traverses the State of Montana, and terminates at Casper, Wyoming. It also requests authorization to construct, connect, operate, and maintain six additional pump stations alongside and connected to the existing crude oil transporter system.

Express is a limited liability company organized and existing under the laws of the State of Delaware and with its principal office located in Calgary, Alberta. Terasen Pipelines (USA) Inc. (Terasen Pipelines) operates and maintains the existing system on behalf of Express. Acting through Terasen Pipelines, Express will finance, construct, connect, operate and maintain the pump stations.

As required by E.O. 13337, the Department of State is circulating this application and a draft environmental assessment to concerned federal agencies for comment.

DATES: Interested parties are invited to submit, in duplicate, comments relative to this proposal on or before July 16, 2004, to Pedro Erviti, Office of International Energy and Commodities Policy, Department of State, Washington, DC 20520. The application and related documents that are part of the record to be considered by the Department of State in connection with this application are available for inspection in the Office of International Energy and Commodities Policy during normal business hours.

FOR FURTHER INFORMATION CONTACT: Pedro Erviti, Office of International Energy and Commodities Policy (EB/ESC/IEC/EPC), Department of State, Washington, DC 20520; or by telephone at (202) 647-1291; or by fax at (202) 647-4037.

Dated: June 10, 2004.
Matthew T. McManus,
Acting Director, Office of International Energy and Commodities Policy, Department of State.

[FR Doc. 04-13697 Filed 6-14-04; 2:22 pm]

BILLING CODE 4710-07-P